DEPARTMENT OF THE INTERIOR

Geological Survey

[DOI-2019-0014; 201G0804MD GGHDFA3500 GF0200000 GX20FA35SA40000]

Privacy Act of 1974; System of Records

AGENCY: United States Geological Survey, Interior.

ACTION: Rescindment of a system of records notice.

SUMMARY: In accordance with the Privacy Act of 1974, as amended, the Department of the Interior is rescinding six systems of records notices from its existing inventory. These notices are maintained by the United States Geological Survey and have been superseded by Government-wide and Department-wide system of records notices. With this rescindment, the affected bureau records will realign under the appropriate Government and Department of the Interior system of records notices.

DATES: These changes take effect on December 16, 2019.

ADDRESSES: You may send comments identified by docket number [DOI-2019-0014] by any of the following methods:

• Federal eRulemaking Portal: http://www.regulations.gov. Follow the instructions for sending comments.

• Email: DOI_Privacy@ios.doi.gov. Include docket number [DOI-2019-0014] in the subject line of the message.

• U.S. Mail or Hand-Delivery: Teri Barnett, Departmental Privacy Officer, U.S. Department of the Interior, 1849 C Street NW, Room 7112, Washington, DC 20240.

Instructions: All submissions received must include the agency name and docket number [DOI-2019-0014]. All comments received will be posted without change to http://www.regulations.gov, including any personal information provided.

Docket: For access to the docket to read background documents or comments received, go to http://www.regulations.gov.

You should be aware your entire comment including your personal identifying information, such as your address, phone number, email address, or any other personal identifying information in your comment, may be made publicly available at any time. While you may request to withhold your personal identifying information from public review, we cannot guarantee we will be able to do so.

FOR FURTHER INFORMATION CONTACT: Cozenja Berry, Associate Privacy Officer, Office of Enterprise Information, U.S. Geological Survey, 12201 Sunrise Valley Drive, Room 4A229, Mail Stop 159, Reston, VA 20192, email at privacy@usgs.gov or by telephone at (703) 648-7062.

SUPPLEMENTARY INFORMATION: Pursuant to the provisions of the Privacy Act of 1974, as amended, the Department of the Interior (DOI), United States Geological Survey (USGS), is rescinding the following six systems of records notices from its system of records inventory.

• INTERIOR/GS-05, Contract Files

• INTERIOR/GS-07, Personal Property Accountability Records

• INTERIOR/GS-11, Security

• INTERIOR/GS-23, Personnel Investigations Records

• INTERIOR/GS-24, Employee Work Report Edit and Individual Employee Production Rates

• INTERIOR/GS-27, Office of Management Services (OMS) Badging and Access Control System

An assessment of these six systems of records by the USGS Associate Privacy Officer revealed that the records contained therein are covered by published Department-wide and Government-wide systems of record notices. To eliminate duplicate system of records notices, the USGS is rescinding the identified notices and realigning the records under their corresponding system of records notice. Rescinding these six notices will have no adverse impacts on individuals as the Department-wide and Government-wide notices apply to all associated records regardless of their custodial location. The affected records will continue to be maintained under their disposition schedules as approved by the National Archives and Records Administration. This rescindment will promote the overall streamlining and management of Department of the Interior Privacy Act systems of records. This notice hereby rescinds aforementioned USGS systems of records notices and realigns the records under the DOI system of records as identified below.

SYSTEM NAME AND NUMBER:

1. INTERIOR/GS-05, Contract Files, 63 FR 60371 (November 9, 1998). The records contained in the system of records are covered by and maintained in two Department-wide systems of records: INTERIOR/DOI-86, Accounts Receivable: FBMS, 73 FR 43772 (July 28, 2008); and INTERIOR/DOI-87, Acquisition of Goods and Services: FBMS, 73 FR 43766 (July 28, 2008).

2. INTERIOR/GS-07, Personal Property Accountability Records, 63 FR 60372 (November 9, 1998). The records contained in the system of records are covered by and maintained in INTERIOR/DOI-58, Employee Administrative Records, 64 FR 19384 (April 20, 1999).

3. INTERIOR/GS-11, Security, 63 FR 60373 (November 9, 1998). The records contained in the system of records are covered by and maintained in INTERIOR/DOI-45, HSPD-12: Identity Management System and Personnel Security Files, 72 FR 11036 (March 12, 2007); INTERIOR/DOI-46, HSPD-12: Physical Security Files, 72 FR 11043 (March 12, 2007); and INTERIOR/DOI-47, HSPD-12: Logical Security Files (Enterprise Access Control Service/EACS), 72 FR 11040 (March 12, 2007).

4. INTERIOR/GS-23, Personnel Investigations Records, 63 FR 60378 (November 9, 1998). The records contained in the system of records are covered by and maintained in INTERIOR/DOI-45, HSPD-12: Identity Management System and Personnel Security Files, 72 FR 11036 (March 12, 2007) and INTERIOR/DOI-46, HSPD-12: Physical Security Files, 72 FR 11043 (March 12, 2007). Records from this system may also be maintained under INTERIOR/DOI-47, HSPD-12: Logical Security Files (Enterprise Access Control Service/EACS), 72 FR 11040 (March 12, 2007).

5. INTERIOR/GS-24, Employee Work Report Edit and Individual Employee Production Rates, 63 FR 60379 (November 9, 1998). The records contained in the system of records are covered by and maintained in INTERIOR/DOI-85, Payroll, Attendance, Retirement, and Leave Records, 83 FR 34156 (July 19, 2018).

6. INTERIOR/GS-27, Office of Management Services (OMS) Badging and Access Control System, 62 FR 6553 (February 12, 1997). The records contained in the system of records are covered by and maintained in INTERIOR/DOI-45, HSPD-12: Identity Management System and Personnel Security Files, 72 FR 11036 (March 12, 2007); INTERIOR/DOI-46, HSPD-12: Physical Security Files, 72 FR 11043 (March 12, 2007); and INTERIOR/DOI-47, HSPD-12: Logical Security Files (Enterprise Access Control Service/EACS), 72 FR 11040 (March 12, 2007). Records related to Personal Identity Verification (PIV) cards issued to employees may also be maintained under Government-wide system of records notice, GSA/GOVT-7, HSPD-12 USAccess, published by the General Services Administration at 80 FR 64416 (October 23, 2015).

HISTORY:

1. INTERIOR/GS-05, Contract Files, 63 FR 60371 (November 9, 1998); modification published at 74 FR 23430 (May 19, 2009).

2. INTERIOR/GS-07, Personal Property Accountability Records, 63 FR 60372 (November 9, 1998); modification published at 74 FR 23430 (May 19, 2009).

3. INTERIOR/GS-11, Security, 63 FR 60373 (November 9, 1998); modification published at 74 FR 23430 (May 19, 2009).

4. INTERIOR/GS-23, Personnel Investigations Records, 63 FR 60378 (November 9, 1998);

5. INTERIOR/GS-24, Employee Work Report Edit and Individual Employee Production Rates, 63 FR 60379 (November 9, 1998); modification published at 74 FR 23430 (May 19, 2009).

6. INTERIOR/GS-27, Office of Management Services (OMS) Badging and Access Control System, 62 FR 6553 (February 12, 1997); modification published at 74 FR 23430 (May 19, 2009).

Teri Barnett,
Departmental Privacy Officer, Department of the Interior.

[FR Doc. 2019-26976 Filed 12-13-19; 8:45 am]

BILLING CODE 4338-11-P